DEPARTMENT OF EDUCATION

Applications for New Awards; Comprehensive Literacy State Development

AGENCY: Office of Elementary and Secondary Education, Department of Education.

ACTION: Notice.

SUMMARY: The Department of Education (Department) is issuing a notice inviting applications for new awards for fiscal year (FY) 2024 for the Comprehensive Literacy State Development (CLSD) program, Assistance Listing Number 84.371C. This notice relates to the approved information collection under OMB control number 1894-0006.

DATES:

Applications Available: April 23, 2024.

Deadline for Notice of Intent to Apply: May 13, 2024.

Deadline for Transmittal of Applications: June 24, 2024.

Deadline for Intergovernmental Review: August 21, 2024.

Pre-Application Webinar Information: The Department will hold a pre-application meeting via webinar for prospective applicants. For information about the pre-application webinar, visit the CLSD website at: https://oese.ed.gov/offices/office-of-discretionary-grants-support-services/well-rounded-education-programs/striving-readers-comprehensive-literacy-srcl-formula-grants-84-371a-for-state-literacy-teams/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Michael Berry, U.S. Department of Education, 400 Maryland Avenue SW, Room 4C128, Washington, DC 20202-6450. Telephone: (202) 453-7088. Email: michael.berry@ed.gov.

If you are deaf, hard of hearing, or have a speech disability and wish to access telecommunications relay services, please dial 7-1-1.

SUPPLEMENTARY INFORMATION:

Full Text of Announcement

I. Funding Opportunity Description

Purpose of Program: The CLSD program awards competitive grants to advance literacy skills through the use of evidence-based (as defined in this notice) practices, activities, and interventions, including pre-literacy skills, reading, and writing, for children from birth through grade 12, with an emphasis on disadvantaged children, including children living in poverty, English learners (as defined in this notice), and children with disabilities (as defined in this notice).

Background: The Department's “Raise the Bar: Lead the World” initiative is a call to action to transform preschool through grade 12 education and beyond, and to unite education leaders at all levels around evidence-based strategies that advance educational equity and excellence for all students.¹ Raising the bar in education focuses on building the skills that all students need to thrive inside and outside of school, and supporting students to excel in the classroom, in their careers, and in their communities.

¹ https://www.ed.gov/raisethebar/.

Specifically, the Department is focused on improving student achievement, including in math and reading, as highlighted across Administration and Department efforts for the past several years. Building on the Administration's previous efforts, in January 2024, the Administration announced its Improving Student Achievement Agenda,² which aims to drive proven strategies that will support academic success for every child in school. The strategies and evidence discussed in the Improving Student Achievement Agenda focus on (1) increasing student attendance; (2) providing high-dosage tutoring; and (3) increasing summer learning and extended or afterschool learning time. These strategies and the broader Improving Student Achievement Agenda, including a focus on core academic instruction, are well aligned with the CLSD program purpose of improving literacy outcomes, and the new funding to be released through the FY 2024 CLSD competition will help accelerate and scale up sustainable adoption of evidence-based strategies that we expect will improve student literacy outcomes in the school years ahead.

² https://www.whitehouse.gov/briefing-room/statements-releases/2024/01/17/fact-sheet-biden-harris-administration-announces-improving-student-achievement-agenda-in-2024/.

Through the FY 2024 CLSD competition, the Department encourages State educational agencies (SEAs) to focus on evidence-based activities that provide explicit intervention and support in reading and writing for children from birth to grade 12, including activities that have been implemented in response to identified literacy gaps and that have positive outcome data. SEAs should take into consideration the resources of the What Works Clearinghouse,³ including the literacy-focused Practice Guides and Intervention Reports on the most effective strategies for supporting student literacy and that are appropriate for the grade, age, and developmental level of the student. Highly effective, evidence-based literacy strategies covered in the Practice Guides, for example, include developing awareness of the segments of sounds in speech and how they link to letters; teaching students to decode words, analyze word parts, and write and recognize words; building students' comprehension and decoding skills so they can read complex multisyllabic words; and providing purposeful fluency-building activities to help students read effortlessly. The What Works Clearinghouse Intervention Reports provide a summary of the highest quality research to help SEA and school district personnel identify the literacy interventions with the strongest evidence bases. The Department encourages SEAs to consult these Intervention Reports to inform their proposals and the technical assistance they provide to school districts. Another resource the Department encourages SEAs to use is the Comprehensive Literacy State Development (CLSD) National Literacy Center,⁴ which has a website that offers information and resources to support States in creating or revising State literacy plans and to identify opportunities and strategies for providing evidence-based literacy coaching for teachers.

³ The Department provides several resources related to evidence-based practices and interventions in literacy. For example, the Institute of Education Sciences' What Works Clearinghouse (https://whatworks.ed.gov) has ten practice guides that offer evidence-based recommendations on literacy and/or writing that are applicable to preschool, elementary, and secondary school settings. Additionally, WWC Intervention Reports review the strength of evidence for branded interventions supporting literacy (and other) outcomes. Other Department resources, including those related to the Best Practices Clearinghouse (https://bestpraacticesclearinghouse.gov) and Raise the Bar (https://ed.gov/raisethebar/academic-success), may also be of interest to some applicants.

⁴ https://literacycenter.ed.gov/.

This competition includes four competitive preference priorities that highlight key policies on which States may focus their proposed projects. First, the Department gives competitive preference to projects that incorporate SEA partnerships with institutions of higher education (IHEs). Strong partnerships with IHEs strengthen educator (as defined in this notice) preparation programs and high-quality professional development (as defined in this notice) for educators, resulting in more effective comprehensive State literacy programs. Second, the Department gives competitive preference to applications that propose projects that are designed to address the impacts of the COVID-19 pandemic using evidence-based instructional approaches and supports to successfully meet challenging academic content standards without contributing to tracking or remedial courses.

Third, the Department gives competitive preference to applications that propose projects designed to promote education equity and adequacy in resources and opportunity for underserved students (as defined in this notice). In responding to this priority, SEAs are encouraged to consider how projects can assess the literacy needs of underserved students, including multilingual learners, to support the screening and identification of reading disabilities (e.g., dyslexia), and evidence-based instructional approaches tailored to students' specific needs. Fourth, the Department gives competitive preference to applications that propose projects that support students and their families at key transitional stages in their education by ensuring coordinated, high-quality professional development for educators in these transitional stages. The Department is interested in projects that include high-quality, evidence-based professional development focused on alignment between early childhood and elementary settings as well as older students who are reading significantly below grade level. Effective comprehensive literacy programs include strong collaboration between early childhood, elementary, and secondary school educators.

Through an invitational priority, the Department encourages projects that support effective transition practices, continuity of services and supports, and aligned instruction for students as they transition from preschool and other early childhood settings into kindergarten and from kindergarten into the early grades, which includes supporting efforts that promote strong foundational literacy skills that undergird early literacy and early math success. The Department also encourages projects that support acceleration strategies for improving literacy for secondary school students who are reading at least 1-2 years below grade level. Additionally, the Department would like to highlight practices that have yielded positive results so that they may be shared with the wider literacy field.

Priorities: This notice contains four competitive preference priorities and one invitational priority. Competitive Preference Priority 1 is from section 2222(f)(2) of the ESEA. Competitive Preference Priorities 2, 3, and 4 are from the Secretary's Supplemental Priorities and Definitions for Discretionary Grant Programs, published in the Federal Register on December 10, 2021 (86 FR 70612) (Supplemental Priorities).

Competitive Preference Priorities: For FY 2024 and any subsequent year in which we make awards from the list of unfunded applications from this competition, these priorities are competitive preference priorities. Under 34 CFR 75.105(c)(2)(i), we award an additional 2 points to an application that meets subpart (a) of Competitive Preference Priority 1 and an additional 2 points to an application that meets subpart (b) of Competitive Preference Priority 1; we award up to an additional 2 points to an application, depending on how well the application addresses Competitive Preference Priority 2; we award up to an additional 2 points to an application, depending on how well the application addresses Competitive Preference Priority 3; and we award up to an additional 2 points to an application, depending on how well the application addresses Competitive Preference Priority 4. An application may receive a total of up to 10 additional points under these competitive preference priorities.

These priorities are:

Competitive Preference Priority 1—Coordination with Institutions of Higher Education. (0, 2, or 4 points)

Under this priority, an applicant must demonstrate how it will use the State-level reservation under section 2222(f)(2) of the ESEA to carry out one or more of the following activities:

(a) Coordinate with IHEs in the State to provide recommendations to strengthen and enhance pre-service courses for students preparing to teach children from birth through grade 12 in explicit, systematic, and intensive instruction in evidence-based literacy methods. (2 points)

(b) Review and update, in collaboration with teachers and IHEs, State licensure or certification standards in the area of literacy instruction in early education through grade 12. (2 points)

Competitive Preference Priority 2—Addressing the Impact of COVID-19 on Students, Educators, and Faculty. (0 to 2 points).

Projects that are designed to address the impacts of the COVID-19 pandemic, including impacts that extend beyond the duration of the pandemic itself, on the students most impacted by the pandemic, with a focus on underserved students and the educators who serve them, through using evidence-based instructional approaches and supports, such as professional development, coaching, ongoing support for educators, high-quality tutoring, expanded access to rigorous coursework and content across K-12, and expanded learning time to accelerate learning for students in ways that ensure all students have the opportunity to successfully meet challenging academic content standards without contributing to tracking or remedial courses.

Competitive Preference Priority 3—Promoting Equity in Student Access to Educational Resources and Opportunities. (0 to 2 points)

Projects that are designed to promote educational equity and adequacy in resources and opportunity for underserved students—

(1) In one or more of the following educational settings:

(i) Early learning programs.

(ii) Elementary school.

(iii) Middle school.

(iv) High school.

(v) Out-of-school-time settings.

(vi) Alternative schools and programs.

(vii) Juvenile justice system or correctional facilities.

(viii) Adult learning.⁵

⁵ CLSD grantees must subgrant 95 percent of their funds to serve the following age/grade bands: 15 percent for birth through kindergarten entry; 40 percent for kindergarten through grade 5; and 40 percent for grades 6 through 12. CLSD funds may be used for adult learning in settings where the adult learners are earning their high school diplomas.

(2) That examines the sources of inequity and inadequacy and implement responses, and that may include one or more of the following:

(i) Establishing, expanding, or improving learning environments for multilingual learners, and increasing public awareness about the benefits of fluency in more than one language and how the coordination of language development in the school and the home improves student outcomes for multilingual learners.

(ii) Expanding access to high-quality early learning, including in school-based and community-based settings, by removing barriers through implementation of programs that are inclusive with regard to race, ethnicity, culture, language, and disability status.

Competitive Preference Priority 4—Supporting a Diverse Educator Workforce and Professional Growth To Strengthen Student Learning. (0 to 2 points)

Projects that are designed to increase the proportion of well-prepared, diverse, and effective educators serving students, with a focus on underserved students, through supporting effective instruction and building educator capacity by providing high-quality job-embedded professional development opportunities focused on supporting students and their families at key transitional stages in their education as they enter into one or more of the following:

(a) Early learning programs.

(b) Elementary school.

(c) Middle school.

(d) High school.

Invitational Priority: For FY 2024 and any subsequent year in which we make awards from the list of unfunded applications from this competition, this priority is an invitational priority. Under 34 CFR 75.105(c)(1) we do not give an application that meets this invitational priority a competitive or absolute preference over other applications.

This priority is:

Supporting Effective Transition Practices, Continuity of Services and Supports, and Aligned Instruction, Including for Students from Preschool and Other Early Childhood Settings into Kindergarten; from Kindergarten into the Early Grades; and in Elementary and Secondary Education.

Projects that—

(a) Include developmentally appropriate practices that support cross-sector collaboration and family engagement across early learning and early elementary grades to support continuity of relationships and services from preschool through grade three, including practices that promote strong foundational literacy skills that undergird early literacy and early math success;

(b) Increase and improve educational opportunities for students and promote academic recovery through aligning the instruction between preschool and grade three and supporting educators and school leaders; and

(c) Increase and improve educational opportunities and outcomes for secondary school students who are reading below or significantly below grade level and promote their increased literacy through developmentally appropriate practices, including practices that support accelerated growth in literacy skills.

Application Requirements: For FY 2024 and any subsequent year in which we make awards from the list of unfunded applications from this competition, applicants must submit an application that meets the following application requirements from section 2222 of the ESEA (20 U.S.C. 6642):

(a) State Needs Assessment.

An SEA must include a needs assessment that analyzes literacy needs across the State and in high-need schools (as defined in this notice) and LEAs that serve high-need schools, including identifying the most significant gaps in literacy proficiency and inequities in student access to effective teachers of literacy, considering each of the subgroups of students, as defined in section 1111(c)(2) of the ESEA.

(b) State Comprehensive Literacy Plan.

An SEA must include a description of how, in collaboration with its State literacy team, if applicable, it will develop a State comprehensive literacy instruction (as defined in this notice) plan or will revise and update an already existing State comprehensive literacy instruction plan.

(c) State Implementation Plan.

An SEA must include an implementation plan that includes a description of how it will carry out the State activities described in section 2222(f) of the ESEA.

(d) State Agency Early Childhood Program Collaboration.

An SEA must collaborate with the State agency responsible for administering early childhood education programs and the State agency responsible for administering child-care programs in the State in writing and implementing the early childhood education portion of the grant application submitted for the CLSD program.

(e) Assurances.

An SEA must include in its application the following assurances:

(1) State Funding Allocations.

(a) An SEA must assure that it will subgrant not less than 95 percent of grant funds to eligible entities (as defined in this notice), based on their needs assessment and a competitive application process, for comprehensive literacy instruction programs according to the funding allocations in Program Requirement (a).

(b) An SEA must assure it will use grant funds described in section 2222(f)(1) for comprehensive literacy instruction programs as follows:

(i) Not less than 15 percent of such grant funds must be used for State and local programs and activities pertaining to children from birth through kindergarten entry.

(ii) Not less than 40 percent of such grant funds must be used for State and local programs and activities, allocated equitably among the grades of kindergarten through grade 5.

(iii) Not less than 40 percent of such grant funds must be used for State and local programs and activities, allocated equitably among grades 6 through 12.

(2) Serving Low-Income and High-Need Students.

An SEA must assure that it will give priority in awarding subgrants to eligible entities that—

(i) Serve children from birth through age 5 who are from families with income levels at or below 200 percent of the Federal poverty line (as defined in this notice); or

(ii) Are LEAs serving a high number or percentage of high-need schools.

(3) Geographic Diversity.

An SEA must assure that it will provide subgrants to eligible entities serving a diversity of geographic areas, giving priority to entities serving greater numbers or percentages of children from low-income families.

Program Requirements: For FY 2024 and any subsequent year in which we make awards from the list of unfunded applications from this competition, the following program requirements apply. These program requirements are from sections 2222-2225 and 2301 of the ESEA.

(a) State Funding Allocations.

(1) Grantees must use not less than 95 percent of grant funds to award subgrants to eligible entities, based on their needs assessment and a competitive application process;

(2) Grantees must subgrant funds as follows:

(i) Not less than 15 percent of the funds awarded to subgrantees must be used for State and local programs and activities pertaining to children from birth through kindergarten entry;

(ii) Not less than 40 percent of the funds awarded to subgrantees must be used for State and local programs and activities, allocated equitably among the grades of kindergarten through grade 5; and

(iii) Not less than 40 percent of the funds awarded to subgrantees must be used for State and local programs and activities, allocated equitably among grades 6 through 12.

(b) State-Level Activities.

(1) A grantee may reserve not more than 5 percent of the CLSD funds it receives for activities identified through the needs assessment and comprehensive literacy plan, including, at a minimum, the following activities:

(i) Providing technical assistance, or engaging qualified providers to provide technical assistance, to eligible entities to enable the eligible entities to design and implement literacy programs.

(ii) Coordinating with IHEs in the State to provide recommendations to strengthen and enhance pre-service courses for students preparing to teach children from birth through grade 12 in explicit, systematic, and intensive instruction in evidence-based literacy methods.

(iii) Reviewing and updating, in collaboration with teachers and IHEs, State licensure or certification standards in the area of literacy instruction in early education through grade 12.

(iv) Making publicly available, including on the SEA's website, information on promising instructional practices to improve child literacy achievement.

(v) Administering and monitoring the implementation of subgrants by eligible entities.

(2) After making awards to subgrantees and carrying out the State-level activities described in this notice, an SEA may use any remaining amount to carry out one or more of the following activities:

(i) Developing literacy coach training programs and training literacy coaches.

(ii) Administration and evaluation of CLSD activities.

(3) Collaboration requirement.

A grantee must collaborate with the State agency responsible for administering early childhood education programs, the State agency responsible for administering child care programs, and, if applicable, the State Advisory Council on Early Childhood Education and Care designated or established pursuant to section 642(b(1)(A)(i) of the Head Start Act, in making and implementing subgrants under the early childhood education portion of the CLSD program, described in section 2222(d)(2)(D)(i).

Note: Section 2222(d)(1) of the ESEA specifically references childcare and early childhood programs within a State. Since the CLSD service population encompasses children from birth and includes pre-literacy services, applicants may collaborate with the State agencies administering the Part C program for infants and toddlers under the Individuals with Disabilities Education Act (IDEA) in their program planning, as some children being served under Part C would likely benefit from CLSD services.

(c) Requirements That Apply to Subgrants to Eligible Entities in Support of Birth through Kindergarten Entry Literacy.

(1) Subgrantee application requirements.

An eligible entity desiring to receive a subgrant under CLSD must submit an application to the SEA, at such time, in such manner, and containing such information as the SEA may require. Such application must include a description of—

(i) How the CLSD funds will be used to enhance the language and literacy development and school readiness of children, from birth through kindergarten entry, in early childhood education programs, which must include an analysis of data that support the proposed use of CLSD funds;

(ii) How the CLSD funds will be used to prepare and provide ongoing assistance to staff in the programs, including through high-quality professional development;

(iii) How the activities assisted with the CLSD funds will be coordinated with comprehensive literacy instruction at the kindergarten through grade 12 levels; and

(iv) How the CLSD funds will be used to evaluate the success of the activities assisted under the subgrant in enhancing the early language and literacy development of children from birth through kindergarten entry.

(2) Priority.

In awarding subgrants to eligible entities in support of birth through kindergarten entry, sections 2222(d)(2)(E) and 2223(c) of the ESEA require that an SEA must provide an assurance that it will—

(i) Give priority to an eligible entity that will use CLSD funds to implement evidence-based activities;

(ii) Give priority to an eligible entity that will use CLSD funds to serve children from birth through age 5 who are from families with income levels at or below 200 percent of the Federal poverty line or is a local educational agency (LEA) serving a high number or percentage of high-need schools.

(3) Duration.

The term of a subgrant must be determined by the grantee and must not exceed five years.

(4) Sufficient size and scope.

Each subgrant must be of sufficient size and scope to allow the eligible entity to carry out high-quality early literacy initiatives for children from birth through kindergarten entry.

(5) Local uses of funds.

An eligible entity that receives a subgrant from the SEA must use the CLSD funds, consistent with the entity's approved application, to—

(i) Carry out high-quality professional development opportunities for early childhood educators, teachers, principals, other school leaders (as defined in this notice), paraprofessionals, specialized instructional support personnel, and instructional leaders;

(ii) Train providers and personnel to develop and administer evidence-based early childhood education literacy initiatives; and

(iii) Coordinate the involvement of families, early childhood education program staff, principals, other school leaders, specialized instructional support personnel (as appropriate), and teachers in literacy development of children served under CLSD.

(d) Requirements That Apply to Subgrants to Eligible Entities in Support of Kindergarten through Grade 12 Literacy.

(1) Subgrantee application requirements.

An eligible entity desiring to receive a subgrant from the SEA under the CLSD program must submit an application to the SEA at such time, in such manner, and containing such information as the SEA may require. Such application must include, for each school that the eligible entity identifies as participating in a CLSD program, the following information:

(i) A description of the eligible entity's needs assessment conducted to identify how CLSD funds will be used to inform and improve comprehensive literacy instruction at the school.

(ii) How the school, the LEA, or a provider of high-quality professional development will provide ongoing high-quality professional development to all teachers, principals, other school leaders, specialized instructional support personnel (as appropriate), and other instructional leaders served by the school.

(iii) How the school will identify children in need of literacy interventions or other support services.

(iv) An explanation of how the school will integrate comprehensive literacy instruction into a well-rounded education (as defined in this notice).

(v) A description of how the school will coordinate comprehensive literacy instruction with early childhood education programs and activities and after-school programs and activities in the area served by the LEA.

(2) Priority.

In awarding subgrants to eligible entities, sections 2222(d)(2)(E) and 2223(c) of the ESEA require that an SEA must provide an assurance that it will—

(i) Give priority to an LEA that will use CLSD funds to implement evidence-based activities; and

(ii) Give priority to an LEA serving a high number or percentage of high-need schools.

(3) Duration.

The term of a subgrant must be determined by the grantee and must not exceed five years.

(4) Sufficient size and scope.

Each subgrant must be of sufficient size and scope to allow the eligible entity to carry out high-quality comprehensive literacy instruction in each grade level for which the CLSD funds are provided.

(5) Local uses of funds for kindergarten through grade 5.

An eligible entity that receives a subgrant from the SEA under the CLSD program must use the CLSD funds to carry out the following activities pertaining to children in kindergarten through grade 5:

(i) Developing and implementing a comprehensive literacy instruction plan across content areas for such children that—

(A) Serves the needs of all children, including children with disabilities and English learners, especially children who are reading or writing below grade level;

(B) Provides intensive, supplemental, accelerated, and explicit intervention and support in reading and writing for children whose literacy skills are below grade level; and

(C) Supports activities that are provided primarily during the regular school day but that may be augmented by after-school and out-of-school time instruction.

(ii) Providing high-quality professional development opportunities for teachers, literacy coaches, literacy specialists, English as a second language specialists (as appropriate), principals, other school leaders, specialized instructional support personnel, school librarians, paraprofessionals, and other program staff.

(iii) Training principals, specialized instructional support personnel, and other LEA personnel to support, develop, administer, and evaluate high-quality kindergarten through grade 5 literacy initiatives.

(iv) Coordinating the involvement of early childhood education program staff, principals, other instructional leaders, teachers, teacher literacy teams, English as a second language specialists (as appropriate), special educators, school personnel, and specialized instructional support personnel (as appropriate) in the literacy development of children served.

(v) Engaging families and encouraging family literacy experiences and practices to support literacy development.

(6) Local uses of funds for grades 6 through 12.

An eligible entity that receives a subgrant from the SEA under CLSD must use CLSD funds to carry out the following activities pertaining to children in grades 6 through 12:

(i) Developing and implementing a comprehensive literacy instruction plan across content areas for such children that—

(A) Serves the needs of all children, including children with disabilities and English learners, especially children who are reading or writing below grade level;

(B) Provides intensive, supplemental, accelerated, and explicit intervention and support in reading and writing for children whose literacy skills are below grade level; and

(C) Supports activities that are provided primarily during the regular school day but that may be augmented by after-school and out-of-school time instruction.

(ii) Training principals, specialized instructional support personnel, school librarians, and other LEA personnel to support, develop, administer, and evaluate high-quality comprehensive literacy instruction initiatives for grades 6 through 12.

(iii) Assessing the quality of adolescent comprehensive literacy instruction as part of a well-rounded education.

(iv) Providing time for teachers to meet to plan evidence-based adolescent comprehensive literacy instruction to be delivered as part of a well-rounded education.

(v) Coordinating the involvement of principals, other instructional leaders, teachers, teacher literacy teams, English as a second language specialists (as appropriate), paraprofessionals, special educators, specialized instructional support personnel (as appropriate), and school personnel in the literacy development of children served.

(7) Additional local allowable uses of funds for kindergarten through grade 12.

An eligible entity that receives a subgrant from an SEA under CLSD may, in addition to carrying out the activities described in paragraphs 5 and 6 of this requirement, use subgrant funds to carry out the following activities pertaining to children in kindergarten through grade 12:

(i) Recruiting, placing, training, and compensating literacy coaches.

(ii) Connecting out-of-school learning opportunities to in-school learning in order to improve children's literacy achievement.

(iii) Training families and caregivers to support the improvement of adolescent literacy.

(iv) Providing for a multi-tier system of supports (as defined in this notice) for literacy services.

(v) Forming a school literacy leadership team to help implement, assess, and identify necessary changes to the literacy initiatives in 1 or more schools to ensure success.

(vi) Providing time for teachers (and other literacy staff, as appropriate, such as school librarians or specialized instructional support personnel) to meet to plan comprehensive literacy instruction.

(e) Supplement not Supplant.

Grantees must use CLSD funds to supplement, and not supplant, non-Federal funds that would otherwise be used for activities authorized under the CLSD program.

(f) Cooperation with National Evaluation.

Grantees must cooperate with a national evaluation of the CLSD program (34 CFR 75.591). The evaluation will include high-quality research that applies rigorous and systematic procedures to obtain valid knowledge relevant to the implementation and effect of the CLSD program. The evaluation will directly coordinate with individual State evaluations of the CLSD program implementation.

Definitions: The definitions of “comprehensive literacy instruction,” “eligible entity,” and “high-need school” are from section 2221 of the ESEA. Except as otherwise specified, the definitions of “child with a disability,” “English learner,” “evidence-based,” “multi-tier system of supports,” “poverty line,” “professional development,” “school leader,” and “well-rounded education” are from section 8101 of the ESEA. The definitions of “disconnected youth,” “early learning,” “educator,” “military- or veteran-connected student,” and “underserved student” are from, and apply to, the Supplemental Priorities.

Child with a disability has the meaning given to the term in section 602 of the Individuals with Disabilities Education Act.

Comprehensive literacy instruction means instruction that--

(a) Includes developmentally appropriate, contextually explicit, and systematic instruction, and frequent practice, in reading and writing across content areas;

(b) Includes age-appropriate, explicit, systematic, and intentional instruction in phonological awareness, phonic decoding, vocabulary, language structure, reading fluency, and reading comprehension;

(c) Includes age-appropriate, explicit instruction in writing, including opportunities for children to write with clear purposes, with critical reasoning appropriate to the topic and purpose, and with specific instruction and feedback from instructional staff;

(d) Makes available and uses diverse, high-quality print materials that reflect the reading and development levels, and interests, of children;

(e) Uses differentiated instructional approaches, including individual and small group instruction and discussion;

(f) Provides opportunities for children to use language with peers and adults in order to develop language skills, including developing vocabulary;

(g) Includes frequent practice of reading and writing strategies;

(h) Uses age-appropriate, valid, and reliable screening assessments, diagnostic assessments, formative assessment processes, and summative assessments to identify a child's learning needs, to inform instruction, and to monitor the child's progress and the effects of instruction;

(i) Uses strategies to enhance children's motivation to read and write and children's engagement in self-directed learning;

(j) Incorporates the principles of universal design for learning;

(k) Depends on teachers' collaboration in planning, instruction, and assessing a child's progress and on continuous professional learning; and

(l) Links literacy instruction to the challenging State academic standards, including the ability to navigate, understand, and write about complex print and digital subject matter.

Disconnected youth means an individual, between the ages 14 and 24,⁶ who may be from a low-income background, experiences homelessness, is in foster care, is involved in the justice system, or is not working or not enrolled in (or at risk of dropping out of) an educational institution.

⁶ CLSD serves youth from birth to grade 12. To the extent that State laws include youth up to age 24 in grade 12, those students may be served.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educator means an individual who is an early learning educator, teacher, principal or other school leader, specialized instructional support personnel (e.g., school psychologist, counselor, school social worker, early intervention service personnel), paraprofessional, or faculty.

Eligible entity means an entity that consists of—

(a) One or more LEAs that serve a high percentage of high-need schools and—

(1) Have the highest number or proportion of children who are counted under section 1124(c) of the ESEA, in comparison to other LEAs in the State;

(2) Are among the LEAs in the State with the highest number or percentages of children reading or writing below grade level, based on the most currently available State academic assessment data under section 1111(b)(2) of the ESEA; or

(3) Serve a significant number or percentage of schools that are implementing comprehensive support and improvement activities and targeted support and improvement activities under section 1111(d) of the ESEA;

(b) One or more early childhood education programs serving low-income or otherwise disadvantaged children, which may include home-based literacy programs for pre-school-aged children, that have a demonstrated record of providing comprehensive literacy instruction for the age group such program proposes to serve; or

(c) An LEA, described in paragraph (a), or consortium of such LEAs, or an early childhood education program, which may include home-based literacy programs for preschool-aged children, acting in partnership with one or more public or private nonprofit organizations or agencies (which may include early childhood education programs) that have a demonstrated record of effectiveness in—

(1) Improving literacy achievement of children, consistent with the purposes of participation under the CLSD program, from birth through grade 12; and

(2) Providing professional development in comprehensive literacy instruction.

English learner means an individual—

(a) Who is aged 3 through 21;

(b) Who is enrolled or preparing to enroll in an elementary school or secondary school;

(c)(i) Who was not born in the United States or whose native language is a language other than English;

(ii)(I) Who is a Native American or Alaska Native, or a native resident of the outlying areas; and (II) Who comes from an environment where a language other than English has had a significant impact on the individual's level of English language proficiency; or

(iii) Who is migratory, whose native language is a language other than English, and who comes from an environment where a language other than English is dominant; and

(d) Whose difficulties in speaking, reading, writing, or understanding the English language may be sufficient to deny the individual—

(i) The ability to meet the challenging State academic standards;

(ii) The ability to successfully achieve in classrooms where the language of instruction is English; or

(iii) The opportunity to participate fully in society.

Evidence-based, when used with respect to a State, LEA, or school activity, means an activity, strategy, or intervention that demonstrates a statistically significant effect on improving student outcomes or other relevant outcomes based on—

(a) Strong evidence from at least one-well designed and well-implemented experimental study;

(b) Moderate evidence from at least one well-designed and well-implemented quasi-experimental study; or

(c) Promising evidence from at least one well-designed and well-implemented correlational study with statistical controls for selection bias.

High-need school means—

(a)(i) An elementary school or middle school in which not less than 50 percent of the enrolled students are children from low-income families; or

(ii) A high school in which not less than 40 percent of the enrolled students are children from low-income families, which may be calculated using comparable data from the schools that feed into the high school.

(b) For the purposes of paragraph (a) of this definition, the term “low-income family” means a family—

(i) In which the children are eligible for a free or reduced-price lunch under the Richard B. Russell National School Lunch Act (42 U.S.C. 1751 et seq.);

(ii) Receiving assistance under the program of block grants to States for temporary assistance for needy families established under part A of title IV of the Social Security Act (42 U.S.C. 601 et seq.); or

(iii) In which the children are eligible to receive medical assistance under the Medicaid program under title XIX of the Social Security Act (42 U.S.C. 1396 et seq.).

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Multi-tier system of supports means a comprehensive continuum of evidence-based, systemic practices to support a rapid response to students' needs, with regular observation to facilitate data-based instructional decisionmaking.

Poverty line means the poverty line (as defined by the Office of Management and Budget and revised annually in accordance with section 673(2) of the Community Services Block Grant Act) applicable to a family of the size involved.

Professional development means activities that—

(a) Are an integral part of school and LEA strategies for providing educators (including teachers, principals, other school leaders, specialized instructional support personnel, paraprofessionals, and as applicable, early childhood educators) with the knowledge and skills necessary to enable students to succeed in a well-rounded education and to meet the challenging State academic standards; and

(b) Are sustained (not stand-alone, one-day, or short-term workshops), intensive, collaborative, job-embedded, data-driven, and classroom-focused, and may include activities that—

(1) Improve and increase teachers'—

(i) Knowledge of the academic subjects the teachers teach;

(ii) Understanding of how students learn; and

(iii) Ability to analyze student work and achievement from multiple sources, including how to adjust instructional strategies, assessments, and materials based on such analysis;

(2) Are an integral part of broad schoolwide and districtwide educational improvement plans;

(3) Allow personalized plans for each educator to address the educator's specific needs identified in observation or other feedback;

(4) Improve classroom management skills;

(5) Support the recruitment, hiring, and training of effective teachers, including teachers who became certified through State and local alternative routes to certification;

(6) Advance teacher understanding of—

(i) Effective instructional strategies that are evidence-based; and

(ii) Strategies for improving student academic achievement or substantially increasing the knowledge and teaching skills of teachers;

(7) Are aligned with, and directly related to, academic goals of the school or LEA;

(8) Are developed with extensive participation of teachers, principals, other school leaders, parents, representatives of Indian tribes (as applicable), and administrators of schools to be served under this program;

(9) Are designed to give teachers of English learners, and other teachers and instructional staff, the knowledge and skills to provide instruction and appropriate language and academic support services to those children, including the appropriate use of curricula and assessments;

(10) To the extent appropriate, provide training for teachers, principals, and other school and community-based early childhood program leaders in the use of technology (including education about the harms of copyright piracy), so that technology and technology applications are effectively used in the classroom to improve teaching and learning in the curricula and academic subjects in which the teachers teach;

(11) As a whole, are regularly evaluated for their impact on teacher effectiveness and student academic achievement, with the findings of the evaluations used to improve the quality of professional development;

(12) Are designed to give teachers of children with disabilities or children with developmental delays, and other teachers and instructional staff, the knowledge and skills to provide instruction and academic support services to those children, including positive behavioral interventions and supports, multi-tier system of supports, and use of accommodations;

(13) Include instruction in the use of data and assessments to inform classroom practice;

(14) Include instruction in ways that teachers, principals, other school leaders, specialized instructional support personnel, and school administrators may work more effectively with parents and families;

(15) Involve the forming of partnerships with institutions of higher education, including, as applicable, Tribal Colleges and Universities as defined in section 316(b) of the Higher Education Act of 1965, as amended (HEA) (20 U.S.C. 1059c(b)), to establish school-based teacher, principal, and other school leader training programs that provide prospective teachers, novice teachers, principals, and other school leaders with an opportunity to work under the guidance of experienced teachers, principals, other school leaders, and faculty of such institutions;

(16) Create programs to enable paraprofessionals (assisting teachers employed by an LEA receiving assistance under part A of title I of the ESEA) to obtain the education necessary for those paraprofessionals to become certified and licensed teachers;

(17) Provide follow-up training to teachers who have participated in activities described in this paragraph that are designed to ensure that the knowledge and skills learned by the teachers are implemented in the classroom; and

(18) Where practicable, provide jointly for school staff and other early childhood education program providers, to address the transition to elementary school, including issues related to school readiness.

School leader means a principal, assistant principal, or other individual who is—

(a) An employee or officer of an elementary school or secondary school, LEA, or other entity operating an elementary school or secondary school; and

(b) Responsible for the daily instructional leadership and managerial operations in the elementary school or secondary school building.

Underserved student means a student (which may include children in early learning environments and students in K-12 programs, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A migrant student.

(h) A student experiencing homelessness or housing insecurity.

(i) A student who is in foster care.

(j) A student without documentation of immigration status.

(k) A pregnant, parenting, or caregiving student.

(l) A student impacted by the justice system, including a formerly incarcerated student.

(m) A student performing significantly below grade level.

(n) A military- or veteran- connected student. For the purpose of this definition only—

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

English learner means an individual who is an English learner as defined in section 8101(20) of the Elementary and Secondary Education Act of 1965, as amended, or an individual who is an English language learner as defined in section 203(7) of the Workforce Innovation and Opportunity Act.

Well-rounded education means courses, activities, and programming in subjects such as English, reading or language arts, writing, science, technology, engineering, mathematics, foreign languages, civics and government, economics, arts, history, geography, computer science, music, career and technical education, health, physical education, and any other subject, as determined by the State or LEA, with the purpose of providing all students access to an enriched curriculum and educational experience.

Program Authority: Sections 2221-2225 and 2301 of the ESEA.

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 79 apply to all applicants except federally recognized Indian Tribes.

II. Award Information

Type of Award: Discretionary grants.

Estimated Available Funds: $185,000,000.

Contingent upon the availability of funds and the quality of applications, we may make additional awards in FY 2025 from the list of unfunded applications from this competition.

Estimated Range of Awards (Annual): $9,500,000-$12,000,000.

Estimated Average Size of Awards (Annual): $11,000,000.

Estimated Number of Awards: 15-20.

Note: The Department is not bound by any estimates in this notice.

Project Period: 60 months. The Secretary may renew a grant for an additional two-year period upon the termination of the initial grant period if the grant recipient demonstrates to the satisfaction of the Secretary that (1) the State has made adequate progress; and (2) renewing the grant for an additional two-year period is necessary to carry out the objectives of the grant detailed in section 2222(d) of the ESEA.

III. Eligibility Information

1. Eligible Applicants: SEAs of the 50 States, the District of Columbia, and Puerto Rico (also referred to in this notice as States).

2. a. Cost Sharing or Matching: This competition does not require cost sharing or matching.

b. Supplement-Not-Supplant: This competition involves supplement-not-supplant funding requirements. Section 2301 of the ESEA provides that funds made available under this program must be used to supplement, and not supplant, non-Federal funds that would otherwise be used for CLSD program activities by grantees and subgrantees.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to eligible entities.

The grantee must award subgrants to entities it selects through a competition under procedures established by the grantee and consistent with sections 2222-2224 of the ESEA.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Submission of Proprietary Information: Given the types of projects that may be proposed in applications for the CLSD program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, resumes, bibliography, logic model, or letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum possible score for addressing all criteria is 100 points. The maximum possible score for addressing each criterion is indicated in parentheses. The selection criteria for this competition are as follows:

(a) Need for project (0 to 5 points).

The Secretary considers the need for the proposed project. In determining the need for the proposed project, the Secretary considers the extent to which specific gaps or weaknesses in services, infrastructure, or opportunities have been identified and will be addressed by the proposed project, including the nature and magnitude of those gaps or weaknesses.

(b) Quality of the project design (0 to 30 points).

The Secretary considers the quality of the design of the proposed project. In determining the quality of the design of the proposed project, the Secretary considers:

(1) The extent to which the goals, objectives, and outcomes to be achieved by the proposed project are clearly specified and measurable. (10 points)

(2) The extent to which the design of the proposed project includes a thorough, high-quality review of the relevant literature, a high-quality plan for project implementation, and the use of appropriate methodological tools to ensure successful achievement of project objectives. (10 points).

(3) The extent to which the proposed project is supported by promising evidence (as defined in 34 CFR 77.1(c)). (10 points).

(c) Quality of management plan (0 to 40 points).

The Secretary considers the quality of the management plan for the proposed project. In determining the quality of the management plan for the proposed project, the Secretary considers:

(1) The adequacy of the management plan to achieve the objectives of the proposed project on time and within budget, including clearly defined responsibilities, timelines, and milestones for accomplishing project tasks. (10 points).

(2) The adequacy of procedures for ensuring feedback and continuous improvement in the operation of the proposed project. (10 points).

(3) The extent to which the time commitments of the project director and principal investigator and other key project personnel are appropriate and adequate to meet the objectives of the proposed project. (10 points).

(4) The adequacy of mechanisms for ensuring high-quality products and services from the proposed project. Note: Applicants may consider subrecipient monitoring as an example of a mechanism in addressing this sub-criterion. (10 points).

(d) Quality of project services (0 to 15 points).

The Secretary considers the quality of the project services to be provided by the proposed project. In determining the quality of project services to be provided by the proposed project, the Secretary considers the quality and sufficiency of strategies for ensuring equal access and treatment for eligible project participants who are members of groups that have traditionally been underrepresented based on race, color, national origin, gender, age, or disability. In addition, the Secretary considers:

(1) The likely impact of the services to be provided by the proposed project on the intended recipients of those services; (5 points) and

(2) The extent to which the training or professional development services to be provided by the proposed project are of sufficient quality, intensity, and duration to lead to improvements in practice among the recipients of those services. (5 points).

(3) The extent to which the services to be provided by the proposed project reflect up-to-date knowledge from research and effective practice. (5 points).

(e) Quality of project evaluation (0 to 10 points).

The Secretary considers the quality of the evaluation to be conducted of the proposed project. In determining the quality of the evaluation, the Secretary considers:

(1) The extent to which the methods of evaluation are thorough, feasible, and appropriate to the goals, objectives, and outcomes of the proposed project. (5 points).

(2) The extent to which the methods of evaluation will provide performance feedback and permit periodic assessment of progress toward achieving intended outcomes. (5 points).

2. Review and Selection Process: We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For purposes of Department reporting under 34 CFR 75.110, the Department has established the following performance measures for the CLSD program:

(1) The percentage of participating four-year-old children who achieve significant gains in oral language skills, as determined by a State-approved measure.

(2) The percentage of participating fifth-grade students who meet or exceed proficiency on State reading/language arts assessments under section 1111(b)(2)(B)(v)(I) of the ESEA.

(3) The percentage of participating eighth-grade students who meet or exceed proficiency on State reading/language arts assessments under section 1111(b)(2)(B)(v)(I) of the ESEA.

(4) The percentage of participating high school students who meet or exceed proficiency on State reading/language arts assessments under section 1111(b)(2)(B)(v)(I) of the ESEA.

All grantees will be expected to submit an annual performance report that includes data addressing these performance measures to the extent that they apply to the grantee's project. Performance targets will be established by each grantee and must be made for each year of the performance period, not to exceed five years.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

7. Annual Project Directors' Meetings: Applicants approved for funding under this competition must attend a meeting for project directors at a location to be determined in the continental United States during each year of the project. Applicants may include, if applicable, the cost of attending this meeting in their proposed budgets as allowable administrative costs.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-08578 Filed 4-22-24; 8:45 am]

BILLING CODE 4000-01-P